DEPARTMENT OF JUSTICE

Federal Bureau of Investigation

[OMB Number 1110-0006]

Agency Information Collection Activities; Proposed eCollection; eComments Requested; Law Enforcement Officers Killed or Assaulted: Extension of a Currently Approved Collection

AGENCY: Federal Bureau of Investigation, Department of Justice.

ACTION: 30-day notice.

SUMMARY: The Criminal Justice Information Services (CJIS) Division, Federal Bureau of Investigation (FBI), Department of Justice (DOJ) will be submitting the following information collection request to the Office of Management and Budget (OMB) for review and approval in accordance with the Paperwork Reduction Act of 1995.

DATES: The Department of Justice encourages public comment and will accept input until October 31, 2022.

FOR FURTHER INFORMATION CONTACT: If you have additional comments especially on the estimated public burden or associated response time, suggestions, or need a copy of the proposed information collection instrument with instructions or additional information, please contact Mr. Edward Abraham, Unit Chief, Module D-1, Criminal Justice Information Services Division, Federal Bureau of Investigation, 1000 Custer Hollow Road, Clarksburg, West Virginia 26306, phone number 304-625-4830. Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of this information collection:

1. Type of Information Collection: Extension of a currently approved collection.

2. The Title of the Form/Collection: Law Enforcement Officers Killed or Assaulted (LEOKA)

3. The agency form number, if any, and the applicable component of the Department sponsoring the collection: Form Number: LEOKA Form 1-705. The applicable component within the Department of Justice is the Criminal Justice Information Services Division, Federal Bureau of Investigation, Department of Justice.

4. Affected public who will be asked or required to respond, as well as a brief abstract:

City, county, state, tribal, territory and federal law enforcement agencies. Abstract: Under Title 28, U.S. Code 534, Acquisition, Preservation, and Exchange of Identification Records; Appointments of Officials, 1930, this collection requests Law Enforcement Officers Killed or Assaulted data from city, county, state, federal, and tribal law enforcement agencies in order for the FBI's UCR Program to serve as the national clearinghouse for the collection and dissemination of crime data and to publish these statistics in the Law Enforcement Officers Killed or Assaulted (LEOKA) annual publication.

5. An estimate of the total number of respondents and the amount of time estimated for an average respondent to respond: There are approximately 18,600 law enforcement agencies within the universe of potential respondents. Due to the recent National Incident-Based Reporting System (NIBRS) transition, the FBI's UCR Program is no longer accepting new monthly submissions for LEOKA data using this clearance but will accept updates to Summary Reporting System submissions for incidents occurring prior to 2021. The submission of updates to past data is strictly voluntary and at the discretion of the contributing agency. Based on current reporting patterns, the FBI's UCR Program has received 64,734 LEOKA update submissions since January 1, 2021, with an estimated response time of 7 minutes per response on this form. As more agencies transition to NIBRS, it is expected that the total number of updates will steadily decline, mainly due to updates being submitted through NIBRS on a more frequent basis. However, due to the need for these updates, the burden hour estimate is based on the most recent submission volumes to achieve the highest possible burden estimate.

6. An estimate of the total public burden (in hours) associated with the collection: There are approximately 7,552.3 hours, annual burden, associated with this information collection.

If additional information is required contact: Robert Houser, Department Clearance Officer, Policy and Planning Staff, Justice Management Division, Department of Justice, Two Constitution Square, 145 N Street NE, 3E.206, Washington, DC 20530.

Dated: September 26, 2022.
Robert Houser,
Department Clearance Officer for PRA, Policy and Planning Staff, Office of the Chief Information Officer, U.S. Department of Justice.

[FR Doc. 2022-21172 Filed 9-29-22; 8:45 am]

BILLING CODE 4410-02-P